DEPARTMENT OF EDUCATION

[Docket No.: ED-2024-SCC-0085]

Federal Student Loan Program Deferment Request Forms; Correction

AGENCY: Department of Education (ED), Federal Student Aid (FSA).

ACTION: Correction notice.

SUMMARY: On September 23, 2024, a request for a 30-day public comment period was published in the Federal Register. The abstract incorrectly included language about forbearances when the collection request is about deferments. The corrected abstract should read: These forms serve as the means by which borrowers in the William D. Ford Federal Direct Loan (Direct Loan), Federal Family Education Loan (FFEL) and the Federal Perkins Loan (Perkins Loan) Programs may request deferment of repayment on their loans if they meet certain statutory and regulatory criteria. The U.S. Department of Education and other loan holders uses the information collected on these forms to determine whether a borrower meets the eligibility requirements for the specific deferment type being submitted. For greater simplicity and to make it easier to maintain consistency among the various deferment forms, the Department is consolidating all the current deferment forms into a single collection under OMB No. 1845-0011. This collection is merging the six currently approved deferment forms in 1845-0011 with the military deferment form currently approved under 1845-0080 and the cancer treatment deferment form currently approved under 1845-0154. The Department is requesting a revision of the currently approved deferment forms. The proposed changes include the following: Updating the forms by eliminating duplicative and obsolete information; reordering items to present information in a more logical order that is consistent between forms; using “plain language” to present information more clearly and consistently; revising language as necessary to reflect regulatory changes made by the Final Rule published on November 1, 2022. The PRA Coordinator, Strategic Collections and Clearance, Office of the Chief Data Officer, Office of Planning, Evaluation and Policy Development, hereby issues a correction notice as required by the Paperwork Reduction Act of 1995.

Dated: September 25, 2024.
Kun Mullan,
PRA Coordinator, Strategic Collections and Clearance, Office of the Chief Data Officer, Office of Planning, Evaluation and Policy Development.

[FR Doc. 2024-22290 Filed 9-27-24; 8:45 am]

BILLING CODE 4000-01-P